FARM CREDIT ADMINISTRATION

[BM-3-MAY-00-04]

Official Names of Farm Credit System Institutions

AGENCY: Farm Credit Administration.

ACTION: Policy statement.

SUMMARY: The Farm Credit Administration (FCA) Board recently adopted a policy statement amending the FCA's policy on official names of Farm Credit System (FCS or System) institutions. FCA's objective was to ensure that the public can identify a System bank, association, or service corporation as belonging to the FCS and is not misled by the name the institution uses. The new policy expands the methods by which institutions may identify themselves as members of the System and adopts a policy for trade names and names of subsidiaries.

EFFECTIVE DATE: May 3, 2000.

FOR FURTHER INFORMATION CONTACT:

William G. Dunn, Financial Analyst, Office of Policy and Analysis, Farm Credit Administration, McLean, VA 22102-5090, (703) 883-4498, TDD (703) 883-4444,

or

Beth Salyer, Attorney-Advisor, Office of General Counsel, Farm Credit Administration, McLean, VA 22102-5090, (703) 883-4020, TDD (703) 883-4444.

SUPPLEMENTARY INFORMATION: The FCA Board adopted a policy statement amending the FCA's policy on official names of FCS institutions. The policy statement, in its entirety, follows:

Official Names of Farm Credit System Institutions; FCA-PS-78 [BM-03-MAY-00-04]

Effective Date: May 3, 2000.

Effect on Previous Action: Supercedes FCA-PS-63 [NV-96-22] 05/30/96.

Source of Authority: Sections 1.3(b), 2.0(b)(8), 2.10(c), 3.0, 5.17(a)(2)(A), 7.0, 7.6(a), 7.8(a) of the Farm Credit Act of 1971, as amended; 12 CFR part 611.

The Farm Credit Administration (FCA or Agency) Board hereby adopts the following policy statement:

Objective

Our objective is to ensure that the public can identify a Farm Credit System (System) bank, association, or service corporation as belonging to the Farm Credit System and is not misled by the name the institution uses. We also believe that Farm Credit System institutions should have more flexibility in proposing official names for their institutions. Our prior policy required institutions' official names to include either a statutory or regulatory designation, or its corresponding acronym. The new policy expands the methods by which institutions may identify themselves as members of the System and adopts a policy for trade names and names of subsidiaries.

Official Names

The FCA Board will approve an official name for a Farm Credit System bank,¹ association, or service corporation that meets the following two requirements:

¹ Farm Credit System bank includes Farm Credit Banks, Banks for Cooperatives, and Agricultural Credit Banks.

• The name includes appropriate identification of the institution as a System institution; and

• The name is not misleading or inappropriate.

Appropriate identification means the name contains either: (1) The relevant statutory or regulatory designation, or its corresponding acronym, or (2) other appropriate identification as a System institution. Relevant statutory and regulatory designations, and their corresponding acronyms, are as follows:

• Agricultural Credit Bank or ACB.

• Bank for Cooperatives or BC.

• Farm Credit Bank or FCB.

• Agricultural Credit Association or ACA.

• Production Credit Association or PCA.

• Federal Land Credit Association or FLCA.

• Federal Land Bank Association or FLBA.

Other appropriate identification as a System institution includes the following:

• Farm Credit Services.

• Farm Credit.

• FCS.

• A member of the Farm Credit System.

Misleading names are those that a reasonable person might find confusing. For example, we would not issue a charter to an institution requesting a name that is the same as or similar to that of an existing institution because the public might find this confusing. Merely avoiding identical names is not enough; to minimize confusion, a proposed name must sufficiently distinguish an institution from other institutions. If the Agency had approved a charter for an institution using MyTown, ACA, as its official name, it would not issue a charter for an institution proposing ACA of MyTown or MyTown Farm Credit Services, ACA, as its official name. Nor would we issue a charter with the phrase “farm credit association” as part of the official name, because the inevitable use of the acronym “FCA” would be confused with the name of the Agency. Also, we would not approve a name for an institution that could cause the public to confuse that institution's authorities and services with those of a commercial bank, thrift institution, or credit union. For example, we would not issue a charter to a System institution requesting the term “national bank” in its official name because this could cause confusion regarding the services the institution may offer.

Trade Names

A System institution may use a trade name. The trade name may not be misleading. If an institution uses a trade name, it must use both the official and trade names in all written communications.

Related Issues

If an ACA and its subsidiaries operate under substantially different names, they must clearly identify the parent/subsidiary relationship in all written communications. For example, if MyTown, PCA, is a subsidiary of EveryTown, ACA, the PCA must identify itself as a subsidiary of the parent ACA in its written communications.

Please note that while the FCA cannot reserve names, the Patent and Trademark Office will register names under certain conditions. When applying for a name change or new charter, System institutions should submit a statement indicating whether they have applied for a trademark in that name.

This statement addresses only FCA's policy. Other laws, such as Federal or state trademark laws, may apply. Institutions should ensure that their official and trade names do not infringe the trademarks or service marks of other companies. Institutions may wish to consult legal counsel to determine whether their proposed names could be challenged or protected under state or federal law.

Dated this 3rd day of May, 2000 by order of the Board.
Dated: May 4, 2000.
Nan P. Mitchem,
Acting Secretary, Farm Credit Administration Board.

[FR Doc. 00-11686 Filed 5-9-00; 8:45 am]

BILLING CODE 6705-01-P